ENVIRONMENTAL PROTECTION AGENCY

[ER-FRL-6648-8]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167.

An explanation of the ratings assigned to draft environmental impact statements (EISs) was published in FR dated April 04, 2003 (68 FR 16511).

Draft EISs

ERP No. D-COE-E39063-NC Rating EC2, Bogus Inlet Channel Erosion Response Project, Relocation of the Main Ebb Channel to Eliminate the Erosive Impact to the Town of Emerald Isle, Carteret and Onslow Counties, NC.

Summary: EPA expressed environmental concerns about the proposal to establish a given channel alignment and beach profile in a dynamic nearshore ecosystem.

ERP No. D-FHW-E40801-NC Rating EC2, US 74 Improvements Corridor, between U.S. 601, north of Monroe in Union County and I-485 (Charlotte Outer Loop), Funding and U.S. Army COE Section 404 Permit Issuance, Mecklenburg and Union Counties, NC.

Summary: EPA has environmental concerns with the proposed project regarding stream and water quality impacts, noise receptor impacts, upland forest communities and terrestrial wildlife, endangered species, agricultural land impacts and air quality. Additionally, EPA also has concerns about indirect and cumulative impacts from induced development effecting natural resources.

ERP No. D-FHW-F40419-MN Rating EC2, MN-371 North Improvement Project, Reconstruction from the Intersection of Crow Wing County Road 18 in Nisswa to the Intersection of Cass County Road 42 in Pine River, Funding, NPDES Permit and U.S. Army COE Section 404 Permit Issuance, Crow Wing and Cass Counties, MN.

Summary: EPA has environmental concerns with the proposed project regarding wetland mitigation, wetland impacts, noise monitoring, water quality, and cumulative and indirect impacts.

ERP No. D-FHW-L40220-OR Rating EC2, Pioneer Mountain to Eddyville Project on U.S. 20, Corvallis-Newport Highway Improvements, Funding, Right-of-Way Grant and U.S. Army COE Section 404 Permit Issuance, Lincoln County, OR.

Summary: EPA has environmental concerns with the proposed project regarding the range of alternatives evaluated in the EIS, potential impacts to headwater streams and terrestrial wildlife, and the design of the conceptual mitigation plan. EPA recommends that additional information related to these topics be included in the final EIS, along with information related to wildlife crossings, the disposition of the present highway, and cuts and fills.

ERP No. DB-COE-E34030-FL Rating LO, Central and Southern Florida Project, Indian River Lagoon—South Feasibility Study, to Address the Requirement of section 601 of the Water Resources Development Act 2000 and Three Additional Alternatives, Martin, St. Lucie and Okeechobee Counties, FL.

Summary: EPA continues to fully support the project goals and recommended that water quality elements be maximized in these restoration efforts.

Final EISs

ERP No. F-AFS-J65386-MT, Programmatic EIS—Winter Motorized Recreation Amendment 24, Proposal to Change the Flathead National Land and Resource Management Plan, Flathead National Forest, Flathead, Lake and Lincoln Counties, MT.

Summary: EPA continues to express environmental concerns that the preferred alternative potentially decreases protections to grizzly bear security compared with other alternatives meeting the purpose and need. EPA suggested mitigation for potential impacts to air quality and human health in areas of concentrated use.

ERP No. F-BLM-G70005-NM, Sierra and Otero Counties Resource Management Plan Amendment and Federal Fluid Minerals Leasing and Development, Implementation, Sierra and Otero Counties, NM.

Summary: No formal comment letter was sent to the preparing agency.

ERP No. F-COE-E30042-FL, Broward County Shore Protection Project, Fill Placement in Segment II (Hillsboro Inlet to Port Everglades) and Segment III (Port Everglades to the south County Line), Broward County, FL.

Summary: While EPA has no objections to the beach nourishment proposal, EPA did suggest further turbidity control measures in areas adjacent to hardbottom resources and recommended that the Record of Decision outline the consequences when all practicable sources of sand have been expended.

ERP No. F-COE-K32012-CA, San Diego Harbor Deepening (Central Navigation Channel) Involving Three Components: Federal Central Navigation Channel Deepening, Disposal of the Dredged Material at the LA-5 Ocean Disposal Site and Relocation and Disposal and Abandonment of a 69 kV Electrical Site, San Diego County.

Summary: While EPA found that the final EIS adequately addressed many of the issues raised in EPA's comment letter on the draft EIS, including the beneficial reuse of dredged material, EPA continued to express concerns that the final EIS did not demonstrate independence of the proposed action and the planned Terminal Deepening Project; provide specific Best Management Practices to protect water quality; or provide further information on air pollution due to the increased number of large vessels using the Port.

ERP No. F-FHW-F40407-IN, I-69 Evansville to Indianapolis Corridor Study, I-69 Completion in Southwestern Indiana and Corridor Selection, IN.

Summary: EPA continues to have environmental concerns with the proposed project regarding future project compliance with CWA section 404 and potential impacts in karst areas. EPA recommends that the Tier 1 ROD commit to all proposed mitigation measures and advises that Tier 2 EISs contain adequate indirect and cumulative impacts analyses.

ERP No. F-NPS-F65038-OH, Cuyahoga Valley National Park Rural Landscape Management Program, Rural Landscape Resources Preservation and Protection, Cuyahoga River, Cuyahoga and Summit Counties, OH.

Summary: The final EIS addressed EPA's previous comments, therefore EPA has no objection to the action as proposed.

ERP No. F-NPS-G65085-AR, Arkansas Post National Memorial General Management Plan, Implementation, Osotouy Unit, Arkansas and Mississippi Rivers, Arkansas County, AR.

Summary: No formal comment letter was sent to the preparing agency.

Dated: February 24, 2004.
Ken Mittelholtz,
Environmental Protection Specialist, Office of Federal Activities.

[FR Doc. 04-4389 Filed 2-26-04; 8:45 am]

BILLING CODE 6560-50-P